DEPARTMENT OF HEALTH AND HUMAN SERVICES

National Institutes of Health

Statement of Organization, Functions, and Delegations of Authority

Part N, National Institutes of Health, of the Statement of Organization, Functions, and Delegations of Authority for the Department of Health and Human Services (40 FR 22859, May 27, 1975, as amended most recently at 67 FR 54441, August 22, 2002, and redesignated from Part HN as Part N at 60 FR 56606, November 9, 1995), is amended as set forth below to reflect the transfer of the budget function from the Office of the Director, NIH, to the Office of Management, Office of the Director, NIH.

Section N-B, Organization and Functions, under the heading Office of the Director (NA, formerly HNA) is amended as follows:

(1) Immediately following the statement for the Office of Science Policy (NA6, formerly HNA6), the title and functional statement of the Office of Budget (NA7, formerly HNA7) are deleted in their entirety.

(2) Under the heading Office of Management (NAM, formerly HNAM), insert the following:

Office of Budget (NAM8, formerly HNAM8). (1) Exercises primary responsibility for NIH-wide budget policy, including planning, analysis, formulation, and presentation; (2) administers and coordinates budget management after appropriations have been made, including reprogramming and coordination of the use of the Director's Discretionary Fund and transfer authority; and (3) provides budget advice to the Director, NIH, and senior OD and Institute and Center (IC) officials.

Budget Analysis and Modeling Staff (NAM8-2, formerly HNAM8-2). (1) Performs modeling of grant and other budget data for projecting major resources as part of the NIH budget development and formulation process; (2) conducts budget analysis and designs and presents a variety of electronically generated tables and visuals to support budget submissions to HHS, OMB, and Congress; (3) completes special analysis projects for the NIH Director; (4) plans, develops, and evaluates budget automation and provides recommendations on the selection and/or design of software that provides trend analyses; and (5) manages the Office of Budget Web page.

Budget Formulation, Presentation, and Execution Branch (NAM82, formerly HNAM82). (1) Provides guidance to and coordinates with ICs on budget policy, planning, formulation, justification, and execution of appropriated and nonappropriated funds; (2) serves as the focal point at NIH for the interpretation, preparation, dissemination, and implementation of HHS, OMB, and congressional financial policies and procedures; (3) advises NIH organizations on the preparation, receipt, and review of budgetary data required for formulation and presentation of the budget; (4) administers all assessments of ICs from appropriated funds; (5) coordinates and consolidates NIH budget execution, administration, and financial reporting, which includes development of apportionments, allotments, allowances, reprogramming, transfers, reserves, and similar matters; (6) implements fiscal controls; and (7) develops, coordinates, and monitors all functions related to the management of full-time equivalent (FTE) resources and makes recommendations on the allocation of FTEs/positions for NIH.

Budget Reporting and Legislative Branch (NAM83, formerly HNAM83). (1) Reviews, interprets, and assesses the impact of new and proposed legislation on the formulation and execution of the NIH budget; (2) collects and reports disease and other areas of special interest expenditure data and responds to requests from the public and Congress on funding of research in these areas; (3) tracks and analyzes appropriations bills through House and Senate passage and conference; (4) manages the process of identifying reports and significant items requested by congressional appropriations committees and assigns responsibility for drafting responses; and (5) manages the production of materials for the appropriations hearings, including instructions and clearances for opening statements, production of questions and answers, and clearances for transcripts.

Delegations of Authority Statement: All delegations and redelegations of authority to officers and employees of NIH that were in effect immediately prior to the effective date of this establishment and are consistent with this amendment shall continue in effect, pending further redelegation.

Dated: February 11, 2003.
Elias A. Zerhouni,
Director, National Institutes of Health.

[FR Doc. 03-5212 Filed 3-5-03; 8:45 am]

BILLING CODE 4140-01-M